FEDERAL MARITIME COMMISSION

Ocean Transportation Intermediary License Applicant

Notice is hereby given that the following applicants have filed with the Federal Maritime Commission an application for licenses as Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel-Operating Common Carrier Ocean Transportation Intermediary Applicants

YT Youngtrans, Inc. d/b/a Youngtrans, 177-25 Rockaway Blvd., Jamaica, NY 11434, Officers: Young S. Sue, Vice President (Qualifying Individual); Veaumyung Yoon, President

Global Ocean (Chicago) Inc., d/b/a Global Logix, Inc., 659 Supreme Drive, Bensenville, IL 60106, Officers: Hyun Soon Yoon, President (Qualifying Individual); Hyo Sub (Steven) Yoon, Director

Worldlink Logix Service, Inc., 440 Route 17 North, Suite 3B, Hasbrouck Heights, NJ 07604, Officer: Yunyop Kim, Director

Non-Vessel Operating Common Carrier and Ocean Freight Forwarder Transportation Intermediary Applicants

Cosmic Express Corp., 14545 Valley View Avenue, #F, Santa Fe Springs, CA 90670, Officer: Jennifer Huang, President (Qualifying Individual)

Planes Moving & Storage, Inc., 9823 Cincinnati-Dayton Road, West Chester, OH 45069, Officers: Jimmy Huff, Vice President; John Planes, C.E.O.

Ocean Freight Forwarders—Ocean Transportation Intermediary Applicants

Carolina Shipping Company, 1064 Gardner Rd., Suite 312, Charleston, SC 29407, Officers: Dennis Forsberg, President; John Springer, Chairman

AmCar Forwarding, Inc., 7700 NW 81 Place, #1, Miami, FL 33166, Officers: Henk Geenen, President (Qualifying Individual); Robert Van Vliet, Vice President

Dated: June 2, 2000.
Bryant L. VanBrakle,
Secretary.

[FR Doc. 00-14344 Filed 6-6-00; 8:45 am]

BILLING CODE 6730-01-U